DEPARTMENT OF HEALTH AND HUMAN SERVICES

Health Resources and Services Administration

Agency Information Collection Activities: Submission to OMB for Review and Approval; Telehealth Resource Center Performance Measurement Tool, OMB No. 0915-0361—Extension

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30-day comment period for this Notice has closed.

DATES: Comments on this ICR should be received no later than April 27, 2022.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the acting HRSA Information Collection Clearance Officer at paperwork@hrsa.gov or call (301) 443-9094.

SUPPLEMENTARY INFORMATION:

Information Collection Request Title: Telehealth Resource Center (TRC) Performance Measurement Tool, OMB No. 0915-0361—Extension.

Abstract: HRSA requests an extension of their TRC Performance Measurement Tool. The TRCs deliver telehealth technical assistance. There are two types of HRSA TRC programs:

• Two National Telehealth Resource Center Programs focus on policy and technology.

• Twelve Regional Telehealth Resource Center Programs host activities and provide resources to rural and underserved areas.

The HRSA TRCs:

• Provide training and support,

• Publicize information and research findings,

• Support collaboration and partnerships,

• Promote effective partnerships, and

• Promote the use of telehealth by providing health care information and education to the public and medical specialists.

The TRCs share expertise through individual consults, training, webinars, conference presentations, and the web.

A 60-day notice published in the Federal Register, 87 FR 1421 (January 11, 2022). There were no public comments.

Need and Proposed Use of the Information: In order to evaluate existing programs, data are submitted to the Office for the Advancement of Telework (OAT) through HRSA's Performance Improvement Management System (PIMS). The data are used to measure the effectiveness of the technical assistance. There is one data reporting period each year; during these reporting periods, data are reported for the previous 12 months of activity. Programs have approximately 6 weeks to enter their data into the PIMS system during each annual reporting period.

The instrument was developed with the following four goals in mind:

1. Improving access to needed services,

2. Reducing rural and underserved population practitioner isolation,

3. Improving health system productivity and efficiency, and

4. Improving patient outcomes.

The TRCs currently report on existing performance data elements using PIMS. The performance measures are designed to assess how the TRC program is meeting its goals to:

• Expand the availability of telehealth services in underserved communities;

• Improve the quality, efficiency, and effectiveness of telehealth services;

• Promote knowledge exchange and dissemination about efficient and effective telehealth practices and technology; and

• Establish sustainable technical assistance (TA) centers providing quality, unbiased TA for the development and expansion of effective and efficient telehealth services in underserved communities.

Additionally, the PIMS tool allows OAT to:

• Determine the value added from the TRC Cooperative Agreement;

• Justify budget requests;

• Collect uniform, consistent data which enables OAT to monitor programs;

• Provide guidance to grantees on important indicators to track over time for their own internal program management;

• Measure performance relative to the mission of OAT/HRSA as well as individual goals and objectives of the program;

• Identify topics of interest for future special studies; and

• Identify changes in health care needs within rural and underserved communities, allowing programs to shift focus in order to meet those needs.

Likely Respondents: The likely respondents will be telehealth associations, telehealth providers, rural and underserved health providers, clinicians that deliver services via telehealth, TA providers, research organizations and academic medical centers.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Telehealth Resource Center Performance Measurement Tool | 14 | 42 | 588 | 0.07 | 41
Total | 14 |  | 588 |  | 41

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2022-06486 Filed 3-25-22; 8:45 am]

BILLING CODE 4165-15-P